NATIONAL SCIENCE FOUNDATION

Agency Information Collection Activities; Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 71 FR 4382, and no comments were received. NSF is forwarding the proposed renewal submission to the Office of Management and Budget (OMB) for clearance simultaneously with the publication of this second notice. Comments regarding (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Catherine Hines, Acting Reports Clearance Officer, National Science Foundation, 4201 Wilson Boulevard, Suite 295, Arlington, Virginia 22230 or send e-mail to chines@nsf.gov. Comments regarding these information collections are best assured of having their full effect if received within 30 days of this notification. Copies of the submission(s) may be obtained by calling 703-292-4414.

FOR FURTHER INFORMATION CONTACT: Katharine Hines at (703) 292-4414 or send e-mail to chines@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the National Science Foundation's (NSF) Faculty Early Career Development (CAREER) Program.

OMB Control No.: 3145-NEW.

Abstract: The National Science Foundation (NSF) requests a three-year clearance for research, evaluation and data collection (e.g., surveys and interview) from actual and potential applicants to and other stakeholders in the Faculty Early Career Development Program (CAREER). CAREER stakeholders typically are limited to PhD scientists and engineers and faculty and administrators from universities and not-for-profit institutions (e.g., museums, non-degree granting educational or research institutions), and former NSF employees and intergovernmental personnel act (IPA) appointees. A preliminary, predecessor study to this new evaluative research was approved through September 2001 as an external (third-party) program evaluation under the EHR Generic Clearance (OMB 345-0136). The earlier CAREER study was conducted by Abt Associates, Inc., Cambridge, MA, and it examined only the first three years that NSF provided CAREER grants to eligible institutions in Fiscal Years (FY) 1995 through 1997. A coy of Abt's final report to NSF entitled Faculty Early Career Development (CAREER) Program: External Evaluation Summary Report) (NSF 01-134) was posted in August 2001 on NSF's Web site and remains available at: http://www.nsf.gov/pubs/2001/nsf01134/nsf01134.pdf. The new CAREER program evaluation is estimated to cover from FY 1995 through FY 2005.

NSF established the CAREER Program to support career-development for beginning teacher-scholars in Science, Technology, Engineering and Mathematics (STEM), within the context of the mission of their employing organization. CAREER typically awards a grant to support the research and educational activities conducted by individual scientists and engineers with PhDs (or the equivalent). For specific details and the most updated information regarding CAREER program operations, please visit the NSF Web site at: http://www.nsf.gov/funding/pgm_summ.jsp?pims_id=5262&from=fund.

NSF has contracted a new program evaluation of CAREER, to be conducted by Abt Associates Inc. Through this new evaluation of the CAREER Program NSF aims to identify, measure and document:

(i) The longer-term impacts of this program on the research activities, educational activities and career advancement of CAREER awardees;

(2) The program's impacts on the integration of research and education by individual STEM faculty;

(3) The impacts of the CAREER program on the institutions (including at the department or other sub-institutional level) that administer the NSF funding to a CAREER scientist or engineer; and

(4) Changes within NSF that may be attributed to the CAREER program's operations, benefiting scientists and engineers, and other CAREER stakeholders.

The primary methods of data collection will include meta-data collection from open sources and from records at NSF and grantee institutions; surveys, institutional site visits, and in-person and telephone interviews. There is a bounded (or limited) number of respondents within the general public who will be affected by this research, including current and former CAREER awardees, scientists and engineers currently or once eligible to apply to CAREER, other scientists and engineers and the STEM research and education communities. NSF will use the CAREER program evaluation data and analyses to respond to requests from Committees of Visitors (COV), Congress and the Office of Management and Budget, particularly as related to the Government Performance and Results Act (GP RA) and the Program Effectiveness Rating Tool (PART). NSF will also use the program evaluation to improve communication with CAREER stakeholders and to share the broader impacts of the CAREER program with the general public.

Respondents: Individuals or households, business or other for profit, Federal Government, State, local or Tribal Government and not-for-profit institutions.

Estimated Number of Respondents: 4000.

Burden on the Public: 2000 hours.

Dated: June 5, 2006.
Catherine J. Hines,
Acting Reports Clearance Officer, National Science Foundation.

[FR Doc. 06-5239 Filed 6-8-06; 8:45 am]

BILLING CODE 7555-01-M